ENVIRONMENTAL PROTECTION AGENCY

[EPA-HQ-OW-2005-0026; FRL-8232-9]

Final Section 106 Tribal Grant Guidance

AGENCY: Environmental Protection Agency (EPA).

ACTION: Notice.

SUMMARY: This document provides notice of the final Guidance on Awards of Grants to Indian Tribes under Section 106 of the Clean Water Act: For Fiscal Year 2007 and Future Years. This Guidance provides the Environmental Protection Agency and Tribes with a consistent framework of procedures and guidelines for awarding and administering grants to federally recognized Tribes under the authority of Section 106 of the Clean Water Act. Specifically, this Guidance will assist Tribal water quality program managers, staff, and other Tribal environmental decision-makers in designing and implementing an effective and successful water quality program utilizing Section 106 funds. The Section 106 Tribal Guidance focuses on Tribal water quality programs at all levels of sophistication and development. For new programs, it explains how to successfully initiate and develop a water quality program. For Tribes with well-established programs, it contains information on expanding a water quality program. To meet the needs of Tribes at all levels of development, this Guidance presents the basic steps a Tribe would take to collect the information it will need to make effective decisions about its program, its goals, and its future direction. This final Guidance will take effect for grants issued by the Environmental Protection Agency's Regional Offices in fiscal year 2007. This action affects all Tribal environmental programs that receive Section 106 Tribal grants.

DATES: This final Guidance is effective on October 20, 2006.

ADDRESSES: EPA has established a docket for this action under Docket ID No. EPA-HQ-OW-2005-0026. All documents in the docket are listed in the www.regulations.gov index. Although listed in the index, some information is not publicly available, e.g., CBI or other information whose disclosure is restricted by statute. Certain other material, such as copyrighted material, is publicly available only in hard copy. Publicly available docket materials are available either electronically through www.regulations.gov or in hard copy at the Water Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Water Docket is (202) 566-2426.

Note: The EPA Docket Center suffered damage due to flooding during the last week of June 2006. The Docket Center is continuing to operate. However, during the cleanup, there will be temporary changes to Docket Center telephone numbers, addresses, and hours of operation, for people who wish to visit the Public Reading Room to view documents. Consult EPA's Federal Register Notice at 71 FR 38147 (July 5, 2006) or the EPA Web site at http://www.epa.gov/epahome/dockets.htm for current information on docket status, locations, and telephone numbers.

FOR FURTHER INFORMATION CONTACT: Lena Ferris, Office of Water, Office of Wastewater Management, Environmental Protection Agency, 1200 Pennsylvania Avenue, NW., 4201M, Washington, DC 20460; telephone number: (202) 564-8831; fax number: (202) 501-2399; e-mail address: ferris.lena@epa.gov.

SUPPLEMENTARY INFORMATION:

I. General Information

Affected Entities: Tribes that are eligible to receive grants under Section 106 of the Clean Water Act.

II. Background

Over the past 10 years, funding available for Section 106 grants to Indian Tribes has increased from $3 million to $25 million per year. This Guidance more clearly defines expectations and requirements for Tribal Section 106 grant recipients and provides a framework for evaluating program results. This document is an effort to provide unified guidance that helps Tribes develop and implement water quality programs and defines what EPA expects from Tribal programs. It provides an overview of all programmatic and technical requirements, discusses common considerations across programs and links to technical resources available to develop Tribal programs. This document outlines new reporting requirements and data management expectations for all Tribal programs receiving Section 106 funds. Data collected as a result of the new reporting requirements will help EPA measure environmental results of the Section 106 Tribal Program and comply with the Government Performance and Results Act (GPRA) and other Federal mandates. EPA published a Notice of Availability regarding a draft version of this Guidance on April 27, 2006 (71 FR 24852). The Agency provided a sixty-day public comment period, in which more than two-hundred comments were received. These comments encompassed four major areas: (1) Monitoring/data reporting (including STORET-related issues); (2) funding (including EPA's future plans with respect to linking Section 106 funding to the various Tribal program activity levels outlined within the Guidance document); (3) training/technical assistance; and (4) miscellaneous comments (i.e., Guidance implementation issues and aligning the Guidance to the Agency's Strategic Plan). As a result of these comments, various communication efforts were undertaken in order to effectively and efficiently provide resolution. Responding to these comments, EPA made minor changes to the actual Guidance text. The Agency has developed a comprehensive Response to Comments (RTC) document outlining details of submitted comments and their associated responses. This document also provides specific locations of the actual Guidance text that have been modified and outlines the exact modifications that were made. This RTC document and final Guidance can be found at the Environmental Protection Agency's Web site at http://www.epa.gov/owm/cwfinance/106tgg07.htm, or by contacting the point of contact listed under the section entitled FOR FURTHER INFORMATION CONTACT.

III. Statutory and Executive Order Reviews

Under Executive Order 12866 (58 FR 51735, October 4, 1993), this action is not a “significant regulatory action” and is therefore not subject to OMB review. Because this grant action is not subject to notice and comment requirements under the Administrative Procedures Act or any other statute, it is not subject to the Regulatory Flexibility Act (5 U.S.C. 601 et.) or sections 202 and 205 of the Unfunded Mandates Reform Act of 1999 (UMRA) (Pub. L. 104-4). In addition, this action does not significantly or uniquely affect small governments. Although this action does not generally create new binding legal requirements, where it does, such requirements do not substantially and directly affect Tribes under Executive Order 13175 (63 FR 67249, November 9, 2000). Informal consultation has been conducted with Tribes, and a formal comment period was also provided. This action will not have federalism implications, as specified in Executive Order 13132 (64 FR 43255, August 10, 1999). This action is not subject to Executive Order 13211, “Actions Concerning Regulations that Significantly Affect Energy Supply, Distribution, or Use” (66 FR 28355, May 22, 2001), because it is not a significant regulatory action under Executive Order 12866. This action does not involve technical standards; thus, the requirements of section 12(d) of the National Technology Transfer and Advancement Act of 1995 (15 U.S.C. 272 note) do not apply. This action does not impose an information collection burden under the provisions of the Paperwork Reduction Act of 1995 (44 U.S.C. 3501 et seq.). The Congressional Review Act, 5 U.S.C. 801 et seq., generally provides that before certain actions may take effect, the agency promulgating the action must submit a report, which includes a copy of the action, to each House of the Congress and to the Comptroller General of the United States. Since this grant action contains legally binding requirements, it is subject to the Congressional Review Act, and EPA will submit this final Guidance in its report to Congress under the Act.

Dated: October 13, 2006.
Benjamin H. Grumbles,
Assistant Administrator, Office of Water.

[FR Doc. E6-17570 Filed 10-19-06; 8:45 am]

BILLING CODE 6560-50-P